INTERNATIONAL BOUNDARY AND WATER COMMISSION, UNITED STATES AND MEXICO

United States Section; Notice of Availability of the Revised Record of Decision for the Final Supplemental Environmental Impact Statement for International Boundary and Water Commission Clean Water Act Compliance at the South Bay International Wastewater Treatment Plant, San Diego County, CA

AGENCY: United States Section, International Boundary and Water Commission (USIBWC).

ACTION: Notice of availability of the Revised Record of Decision for the Final Supplemental Environmental Impact Statement.

SUMMARY: On September 30, 2005, the USIBWC issued a Record of Decision (“ROD”) which selected Alternative 4, Treatment Option C, Discharge Option 1 (Operation of SBIWTP as Advance Primary Facility, Secondary Treatment in Mexico) as the means for achieving CWA compliance at the SBIWTP. Reevaluation of alternatives for achieving compliance was prompted by the inability to timely implement the selected alternative and by changes in financial considerations relevant to the decision of whether to provide secondary treatment in Mexico or in the United States. After reevaluation, the USIBWC has decided to upgrade the SBIWTP to secondary treatment in the United States (Secondary Treatment in the United States, Alternative 5, Option B-2, Activated Sludge with Expanded Capacity) to achieve compliance with the CWA and the NPDES permit. This Revised Record of Decision reflects the results of the revaluation and was prepared in compliance with 40 CFR 1505.2.

DATES: The Revised ROD for the Final SEIS was made available to agencies, organizations and the general public on May 15, 2008. A copy of the Revised ROD for the Final SEIS was posted on the USIBWC Web site at http://www.ibwc.gov/Files/ROD_sbiwtp_2008.pdf.

FOR FURTHER INFORMATION CONTACT: Mr. Daniel Borunda, Environmental Protection Specialist, Environmental Management Division, USIBWC, 4171 North Mesa Street, C-100, El Paso, Texas 79902 or e-mail: danielborunda@ibwc.gov.

Dated: May 16, 2008.
Susan E. Daniel,
Legal Counsel.

[FR Doc. E8-11503 Filed 5-21-08; 8:45 am]

BILLING CODE 7010-01-P